DEPARTMENT OF HEALTH AND HUMAN SERVICES

National Committee on Vital and Health Statistics: Meeting

Pursuant to the Federal Advisory Committee Act, the Department of Health and Human Services (HHS) announces the following advisory committee meetings.

Name: National Committee on Vital and Health Statistics (NCVHS), Subcommittee on Standards and Security (SSS)

Times and Dates:

Meeting One: July 28, 2004 9 a.m.-6 p.m.; July 29, 2004 8:30 a.m.-6 p.m.; July 30, 2004 8:30 a.m.-12:30 p.m.

Meeting Two: August 17, 2004, 9 a.m.-5 p.m.; August 18, 2004 8:30 a.m.-5 p.m.; August 19, 2004 8:30 a.m.-12:30 p.m.

Place: Hubert H. Humphrey Building, 200 Independence Avenue, SW., Room 705A, Washington, DC 20201.

Status: Open.

Purpose: At the July 28-30 meeting, the Subcommittee will hold hearings related to NCVHS' requirements under the Medicare Modernization Act of 2004 to develop recommendations on standards for e-prescribing for the HHS Secretary. The hearings on the first two days will conclude testimonies from stakeholders including pharmacy benefit management organizations, pharmaceutical manufacturers, payers, and hospitals. On the third day the Subcommittee will begin working on identifying potential initial stnadards, gaps, and related issues.

At the August 17-19 meeting, the Subcommittee will present its findings from the July hearings to standards development organizations, terminilogy developers, and others, for reaction and then draft a preliminary recommendation letter for possible presentation to the Full NCVHS in September.

Contact Person for More Information: Substantive program information as well as summaries of meetings and a roster of Committee members may be obtained from Maria Friedman, Health Insurance Specialist, Security and Standards Group, Centers for Medicare and Medicaid Services, MS: C5-24-04, 7500 Security Boulevard, Baltimore, MD 21244-1850, telephone: 410-786-6333 or Marjorie S. Greenberg, Executive Secretary, NCVHS, National Center for Health Statistics, Centers for Disease Control and Prevention, Room 1100, Presidential Building, 3311 Toledo Road, Hyattsville, Maryland 20782, telephone: (301) 458-4245. Informaiton also is available on the NCVHS home page of the HHS Web site: http://www.ncvhs.hhs.gov/ where an agenda for the meeting will be posted when available.

Should you require reasonable accommodation, please contact the CDC Office of Equal Employment Opportunity on (301) 458-4EEO (4336) as soon as possible.

Dated: July 21, 2004.
James Scanlon,
Acting Deputy Assistant Secretary for Science and Data Policy, Office of the Assistant Secretary for Planning and Evaluation.

[FR Doc. 04-17329 Filed 7-28-04; 8:45 am]

BILLING CODE 4151-05-M